DEPARTMENT OF THE INTERIOR

National Indian Gaming Commission

Adoption and Recirculation of the Final Environmental Impact Statement for the Wilton Rancheria Fee-to-Trust and Casino Project

AGENCY: National Indian Gaming Commission, Department of the Interior.

ACTION: Notice of adoption and recirculation of the final environmental impact statement for the Wilton Rancheria Fee-to-Trust and Casino Project.

SUMMARY: The National Indian Gaming Commission (NIGC) is adopting the Bureau of Indian Affairs (BIA), Department of the Interior, December 2016 Final Environmental Impact Statement (the “BIA EIS”) for the Wilton Rancheria (Tribe) Fee-to-Trust and Casino Project in Elk Grove, California. The NIGC is adopting the BIA EIS to satisfy the NIGC's National Environmental Policy Act (NEPA) obligations related to the Tribe's request for the NIGC Chairman's approval of a gaming management agreement between the Tribe and BGM Co, Inc. (BGM).

DATES: The NIGC will execute a Record of Decision (ROD) no sooner than 30 days following publication by the Environmental Protection Agency (EPA) of its Notice of Availability of the BIA EIS (EPA Notice) in the Federal Register.

ADDRESSES: An electronic copy of the BIA EIS, among other documents, is available for download from http://www.wiltoneis.com. Electronic copies are also available on CD at the NIGC Sacramento Region Office located at 801 I Street Suite 489, Sacramento, CA 95814.

FOR FURTHER INFORMATION CONTACT: Austin Badger, National Indian Gaming Commission, Office of the General Counsel; 1849 C Street NW, Mail Stop #1621, Washington, DC 20240. Phone: 202-632-7003. Facsimile: 202-632-7066. Email: info@nigc.gov.

SUPPLEMENTARY INFORMATION: As described in the BIA EIS, the Tribe's casino resort project (2017 Approved Project) includes management of the gaming facility by a professional management company on behalf of the Tribe. The NIGC Chairman's approval is necessary for the management agreement to take effect. The Tribe has therefore requested that the NIGC Chairman approve a management agreement between the Tribe and BGM which would allow BGM to manage the Tribe's gaming facility on the Tribe's trust property in Elk Grove, California (Proposed Action).

The environmental effects of the 2017 Approved Project, including management by a professional management company, were fully analyzed and chosen as the Preferred Alternative in the BIA EIS and approved in the BIA's January 19, 2017 Record of Decision (BIA ROD) for the acquisition in trust by the United States of land in the City of Elk Grove, California, for the Tribe. The adequacy of the BIA EIS is the subject of a judicial action which is not final, Stand Up For California!, et al., v. United States Department of Interior, et al., Civil Action No. 1:17-cv-00058 (D.D.C. filed Jan. 11, 2017). Electronic copies of the BIA EIS and BIA ROD, among other documents, are available for download from http://www.wiltoneis.com.

The BIA ROD included mitigation for any significant environmental impacts resulting from the 2017 Approved Project by recommending that the Tribe implement mitigation measures set out in the Mitigation Monitoring and Enforcement Plan (MMEP), which was Attachment IV to the BIA ROD. The NIGC was consulted during the preparation of the BIA EIS but did not serve as a cooperating agency in the development of the BIA EIS.

Subsequent to the release of the BIA EIS and BIA ROD, the Tribe made several modifications to the casino resort project (2018 Modified Project). The NIGC therefore directed preparation of a Supplemental Information Report (SIR) to evaluate the 2018 Modified Project and the adequacy of the BIA EIS to address NIGC NEPA compliance requirements in its consideration of the Proposed Action. The SIR concluded that the 2018 Modified Project does not include any substantial changes to the 2017 Approved Project relevant to environmental concerns and that no significant new circumstances or information relevant to environmental concerns and bearing on the 2018 Modified Project and its impacts exist. The SIR further concluded that the BIA EIS appears adequate to meet the NIGC's NEPA compliance requirements and that a supplemental environmental impact statement is not required. An electronic copy of the SIR is available for download from http://www.wiltoneis.com.

The Council on Environmental Quality (CEQ) regulations implementing NEPA strongly encourage agencies to reduce paperwork and duplication, 40 CFR 1500.4. One of the methods identified by CEQ to accomplish this goal is through the adoption by one agency of environmental documents prepared by other agencies, 40 CFR 1500.4(n), 1500.5(h), and 1506.3. In instances where the actions covered by the original environmental impact statement and the proposed action are substantially the same, the agency adopting another agency's statement is not required to recirculate it except as a final statement, 40 CFR 1506.3(b).

The NIGC has conducted an independent review of the BIA EIS, BIA ROD, and SIR for the purpose of determining whether the NIGC could adopt the BIA EIS pursuant to 40 CFR 1506.3. First, the NIGC's review concluded that the actions encompassed by the 2018 Modified Project are substantially the same as the actions documented as the 2017 Approved Project in the BIA EIS and BIA ROD. Second, the NIGC assessed whether a supplemental environmental impact statement is required. As supported by the SIR, the NIGC concluded that there are (1) no significant new circumstances or information relevant to environmental concerns or bearing on the Proposed Action and (2) no substantial changes to the Proposed Action relevant to environmental concerns. Thus, a supplemental environmental impact statement is not required. Third, the BIA EIS meets the standards of the CEQ regulations, 40 CFR parts 1500-1508. Therefore, the NIGC can adopt the BIA EIS and recirculate it as a final statement.

In accordance with the Environmental Protection Agency's (EPA) requirements regarding the filing of environmental impact statements, the NIGC has provided EPA with electronic copies of the BIA EIS. EPA will publish a notice of availability of the BIA EIS in the Federal Register consistent with its usual practices. Because of the multivolume size of the BIA EIS and its continued availability on http://www.wiltoneis.com, the NIGC is not republishing the document under a new title. To do so would be costly, defeat CEQ's goals of reducing paperwork and duplication of effort, and be of little or no additional value to other agencies or the public. The review period for the adoption of the BIA EIS shall extend for 30 calendar days following publication of the EPA Notice.

The final stage in the environmental review process under NEPA is the issuance of a ROD describing the agency's decision and the basis for it. Under the timelines included in the CEQ regulation, 40 CFR 1506.10, a ROD cannot be issued by an agency earlier than thirty days after EPA publishes its Federal Register notice notifying the public of the availability of the final EIS. Any ROD issued by the NIGC will be consistent with 40 CFR 1505.2.

Accordingly, the NIGC is adopting and recirculating the BIA EIS and has concluded that no supplemental or additional environmental review is required to support the Proposed Action.

Authority: This notice is published in accordance with 25 U.S.C. 2711 and Section 1506.3 of the Council of Environmental Quality Regulations (40 CFR parts 1500-1508) implementing the procedural requirements of NEPA, as amended (42 U.S.C. 4321, et seq.).

Dated: September 11, 2018.
Christinia Thomas,
Chief of Staff (Acting).

[FR Doc. 2018-20042 Filed 9-13-18; 8:45 am]

BILLING CODE 7565-01-P